DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Thrall Car Manufacturing Company

[Docket Number FRA-1999-6358]

Thrall Car Manufacturing Company (TCMC) seeks a permanent waiver of compliance with certain provisions of the Railroad Safety Appliance Standards, 49 CFR Part 231.24, as they apply to auto carrying railcars as follows:

1. Use the reduced wording described in Parts 231.24(j)(1) and 231.24(j)(2) rather than 231.27(j)(1) and (j)(2). Part 231.24.(j)(1) states “That section of each car more than fifteen (15) feet above the top of the rail shall be painted with contrasting reflectorized paint and shall bear the words “No running boards” to the left of center and “Excess height car” to the right of center.” Section 231.24(j)(2) states “On each side sill near end corner there shall be painted a yellow rectangular area with a three-fourths (¾) inch black border containing the words “This car excess height-no running board” Lettering to be not less than one and one-half (1½) inches high.”

Thrall Car Manufacturing Company (TCMC) has petitioned to eliminate the stencilling regarding running boards on these cars account of the cars not being so equipped.

2. They request that the word material be substituted for paint in this section to permit utilizing new technological advancements in reflectorization.

3. Section 231. 24(j)(2) requires that “On each side sill near end corner there shall be painted a yellow rectangular area with a three-fourths (¾) inch black border containing the words “This car excess height* * * TCMC has petitioned to relocate this stencil/decal from the side-sill, if room is not available, to the shear panel of the auto rack.” The stencil/decal will be located as low as possible on three of the corners and directly above the handbrake on the “BL” corner.

4. TCMC requests that “contrasting color” borders be allowed on cars with a dark exterior paint where a black border, required in 231.24(j)(2) and 231.27(j)(2), would not be readily visible.

5. TCMC requests that the maximum allowable misalignment between the front inside edge of the auto rack ladder style to the inside edge of the flat car sill step be increased from the dimensions listed in Motive Power and Equipment Technical Bulletin 98-05 to six (6) inches. This relief would be consistent with guidelines set forth in AAR's Manual of Standards and Recommended Practices, S-2038-85, 2.3.4.

FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-1999-6358) and must be submitted to the Docket Clerk, DOT Central Docket Management Facility, Room PL-401, Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Issued in Washington, DC on October 1, 2000.
Grady C. Cothen, Jr.,
Deputy Associate Administrator for Safety Standards and Program Development.

[FR Doc. 00-25629 Filed 10-4-00; 8:45 am]

BILLING CODE 4910-06-P